CONSUMER PRODUCT SAFETY COMMISSION

[Docket No. CPSC-2015-0018]

Petition for Classification of Vacuum Diffusion Technology as an Anti-Entrapment System Under the Virginia Graeme Baker Pool and Spa Safety Act

AGENCY: Consumer Product Safety Commission.

ACTION: Notice.

SUMMARY: Paul C. McKain, Chief Executive Officer of PSD Industries, LLC, (“Petitioner”), requests that the Commission initiate rulemaking to determine that Vacuum Diffusion Technology is an anti-entrapment system under the Virginia Graeme Baker Pool and Spa Safety Act (“VGBA”). The Commission invites written comments concerning the petition.

DATES: The Office of the Secretary must receive comments on the petition by October 5, 2015.

ADDRESSES: You may submit comments, identified by Docket No. CPSC-2015-0018, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: mail/hand delivery/courier to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2015-0018, into the “Search” box, and follow the prompts.

FOR FURTHER INFORMATION CONTACT: Rocky Hammond, Office of the Secretary, Consumer Product Safety Commission, 4330 East-West Highway, Bethesda, MD, 20814; telephone (301) 504-6833, email: rhammond@cpsc.gov.

SUPPLEMENTARY INFORMATION: Section 1404(c)(1)(A)(ii) of the VGBA requires that each public pool and spa in the United States with a single main drain other than an unblockable drain be equipped, at a minimum, with one or more of the following anti-entrapment devices or systems: (I) Safety vacuum release system; (II) Suction-limiting vent system; (III) Gravity drainage system; (IV) Automatic pump shut-off system; (V) Drain disablement; or (VI) any other system determined by the Commission to be equally effective as, or better than, these systems at preventing or eliminating the risk of injury or death associated with pool drainage systems. 15 U.S.C. 8003(c)(1)(A)(ii). Petitioner submitted a petition to the Commission dated June 11, 2015, to initiate rulemaking to determine that the VDT is an anti-entrapment device or system under the VGBA. To include the VDT in the list of anti-entrapment devices or systems in the VGBA, the Commission must determine that the VDT is “equally effective as, or better than” the anti-entrapment devices and systems listed in section 1404(c)(1)(A)(ii) of the VGBA at preventing or eliminating the risk of injury or death associated with pool drainage systems.

Petitioner asserts that VDT can help prevent risks of entrapment as a backup layer of protection and serves the same purpose as a safety vacuum release system (“SVRS”). Petitioner defines VDT as “a system that removes the intense vacuum draw from the intake point of a pumping system by occluding the intake orifice from swimmers and diffusing the vacuum from a potential blockage immediately in multiple directions from the blockage.” According to Petitioner, “covering 50% of the Vacuum Diffusion Technology intake device should not raise the normal vacuum draw by more than .4” Hg.”

Petitioner states that changing technology necessitates new anti-entrapment safety technology. Petitioner provides that some states have mandated the use of variable speed pumps in pools, and, according to Petitioner, SVRSs do not function on variable speed pumps. Petitioner asserts that technicians have learned to bypass SVRSs.

Petitioner states that VDT is only effective when the drain cover is missing and acknowledges that VDT does not protect against full-body entrapment. Petitioner asserts, however, that the devices and systems listed in the VGBA have limitations, and that VDT protects against limb, hair, and mechanical entrapment and mitigates evisceration.

By this notice, the Commission seeks comments concerning this petition to classify VDT as an anti-entrapment system or device under the VGBA. Interested parties may obtain a copy of the petition by writing or calling the Office of the Secretary, Consumer Product Safety Commission, 4330 East-West Highway, Bethesda, MD 20814; telephone (301) 504-6833. The petition is also available at: http://www.regulations.gov under Docket No. CPSC-2015-XXXX, Supporting and Related Materials.

Dated: July 30, 2015.
Todd A. Stevenson,
Secretary, U.S. Consumer Product Safety Commission.

[FR Doc. 2015-19076 Filed 8-3-15; 8:45 am]

BILLING CODE 6355-01-P